DEPARTMENT OF HOMELAND SECURITY

U.S. Immigration and Customs Enforcement

[Docket No. ICEB-2023-0006]

RIN 1653-ZA42

Employment Authorization for Afghan F-1 Nonimmigrant Students Experiencing Severe Economic Hardship as a Direct Result of the Current Armed Conflict and Current Humanitarian Crisis in Afghanistan

AGENCY: U.S. Immigration and Customs Enforcement; Department of Homeland Security.

ACTION: Notice.

SUMMARY: This notice announces that the Secretary of Homeland Security (Secretary) is suspending certain regulatory requirements for F-1 nonimmigrant students whose country of citizenship is Afghanistan, regardless of country of birth (or individuals having no nationality who last habitually resided in Afghanistan), and who are experiencing severe economic hardship as a direct result of the current armed conflict and current humanitarian crisis in Afghanistan. The Secretary is taking action to provide relief to these Afghan students who are in lawful F-1 nonimmigrant students status, so the students may request employment authorization, work an increased number of hours while school is in session, and reduce their course load while continuing to maintain their F-1 nonimmigrant student status. The U.S. Department of Homeland Security (DHS) will deem an F-1 nonimmigrant student granted employment authorization by means of this notice to be engaged in a “full course of study” for the duration of the employment authorization, if the nonimmigrant student satisfies the minimum course load requirement described in this notice.

DATES: This action is effective November 21, 2023, through May 20, 2025.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Afghanistan regardless of country of birth (or individuals having no nationality who last habitually resided in Afghanistan), who are present in the United States in lawful F-1 nonimmigrant student status on the date of publication of this notice, and who are experiencing severe economic hardship as a direct result of the armed conflict and humanitarian crisis in Afghanistan. The original notice, which suspended certain regulatory requirements for

F-1 nonimmigrant students experiencing severe economic hardship as a direct result of the situation at that time is effective from May 20, 2022, through November 20, 2023. See 87 FR 30971 (May 20, 2022). Effective with this publication, suspension of the employment limitations is available through May 20, 2025, for those who are in lawful

F-1 nonimmigrant status on the date of publication of this notice. DHS will deem an F-1 nonimmigrant student granted employment authorization through this notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 20, 2025, provided the student satisfies the minimum course load requirements in this notice.

Who is covered by this notice?

This notice applies exclusively to F-1 nonimmigrant students who meet all of the following conditions:

(1) Are a citizen of Afghanistan regardless of country of birth (or an individual having no nationality who last habitually resided in Afghanistan);

(2) Were lawfully present in the United States on the date of publication of this notice in F-1 nonimmigrant status under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of the current armed conflict and current humanitarian crisis in Afghanistan.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to Afghan F-1 nonimmigrant students experiencing severe economic hardship due to the armed conflict and humanitarian crisis in Afghanistan. Based on its review of country conditions in Afghanistan and input received from the U.S. Department of State (DOS), DHS is taking action to allow eligible F-1 nonimmigrant students from Afghanistan to request employment authorization, work an increased number of hours while school is in session, and reduce their course load while continuing to maintain F-1 nonimmigrant student status.

Since the August 2021 Taliban takeover, armed conflict, as well as violence against Afghans associated with international efforts in Afghanistan, has continued throughout Afghanistan.² The U.S. Department of State describes ongoing human rights abuses, widespread disregard for law, and a climate of fear of retribution against those who are perceived to oppose the Taliban regime.³ The Taliban do not respect human rights, especially of Afghan women and girls, and struggle to meet the country's numerous challenges including the economic situation.⁴ The World Bank described the situation in Afghanistan as grim, finding significant instability in food security, healthcare, and general welfare for women and girls.⁵ Ongoing armed conflict poses a serious threat to the safety of nationals returning to Afghanistan. Extraordinary and temporary conditions, including lack of access to food, clean water, and healthcare, as well as destroyed infrastructure, internal displacement, and economic instability continue to prevent Afghan nationals from returning to their homeland in safety.

² U.S. Department of State, 2022 Country Report on Human Rights Practices: Afghanistan, Mar. 20, 2023, available at: https://www.state.gov/wp-content/uploads/2023/03/415610_AFGHANISTAN-2022-HUMAN-RIGHTS-REPORT.pdf (last visited Aug. 25, 2023).

³ U.S. Department of State, 2022 Country Report on Human Rights Practices: Afghanistan, Mar. 20, 2023, available at: https://www.state.gov/wp-content/uploads/2023/03/415610_AFGHANISTAN-2022-HUMAN-RIGHTS-REPORT.pdf (last visited Aug. 25, 2023).

⁴ Lindsay Maizland, The Taliban in Afghanistan, Council on Foreign Relations (CFR), Jan. 19, 2023, available at: https://www.cfr.org/backgrounder/taliban-afghanistan (last visited May 5, 2023).

⁵ The World Bank, World Bank Survey: Living Conditions Remain Dire for the Afghan People, Nov. 22, 2022, available at: https://www.worldbank.org/en/news/press-release/2022/11/22/world-bank-survey-living-conditions-remain-dire-for-the-afghan-people (last visited June 8, 2023).

Scale and Impact of Conflict

While overall armed conflict has decreased since the Taliban takeover, armed conflict continues by the Taliban and the Islamic State in Khorasan Province (ISKP) against the general population persists.6 7 Since the Taliban takeover, the Taliban have struggled to stabilize Afghanistan. They imposed their interpretation of sharia law, enacted harsh punishments against the population, and undermined the enjoyment of human rights.⁸ ISKP is a U.S. designated terrorist group and transnational affiliate of the Islamic State militant group that seeks to control Central and South Asia to establish a caliphate.⁹ It is engaged in armed conflict with the Taliban, and continues to conduct attacks against Taliban fighters, civilians, and protected sites, including mosques.¹⁰ The Taliban continue to fight ISKP in the east and north .11 12 ISKP, an Islamic State affiliate active since approximately 2014, continues to pose a risk to security and safety in Afghanistan.¹³ Beginning in August 2021, ISKP began rejecting Taliban legitimacy and escalated attacks against them across the country.¹⁴ In mid-2022, ISKP conducted multiple attacks on primarily civilian targets in Kunduz and Mazar-i-Sharif.¹⁵ Within Afghanistan, ISKP attacks are mostly aimed at Taliban targets and minority groups, especially Hazaras.16 17 While ISKP does not control territory in Afghanistan, their recent escalation of attacks contributes to the ongoing security crisis in the country.¹⁸

⁶ International Crisis Group, Afghanistan's Security Challenges under the Taliban, Aug. 12, 2022, available at: https://www.crisisgroup.org/asia/south-asia/afghanistan/afghanistans-security-challenges-under-taliban (last visited May 6, 2023).

⁷ Human Rights Watch, World Report 2023—Afghanistan, Jan. 12, 2023, available at: https://www.ecoi.net/en/document/2085369.html (last visited June 8, 2023).

⁸ Amnesty International, Amnesty International Report 2022/23, The State of the World's Human Rights, Afghanistan 2022, Mar. 27, 2023, available at: https://www.ecoi.net/en/document/2089394.html (last visited June 9, 2023).

⁹ Countering a Resurgent Terrorist Threat in Afghanistan: Contingency Planning Memorandum Update, Council on Foreign Relations, available at: https://www.cfr.org/report/countering-resurgent-terrorist-threat-afghanistan (last visited Sept. 18, 2023).

¹⁰ 2022 Report on International Religious Freedom: Afghanistan, Dept. of State, available at: https://www.state.gov/reports/2022-report-on-international-religious-freedom/afghanistan/#section-3 (last visited Sept. 18, 2023).

¹¹ International Crisis Group, Afghanistan's Security Challenges under the Taliban, Aug. 12, 2022, available at: https://www.crisisgroup.org/asia/south-asia/afghanistan/afghanistans-security-challenges-under-taliban (last visited May 6, 2023).

¹² Human Rights Watch, World Report 2023—Afghanistan, Jan. 12, 2023, available at: https://www.ecoi.net/en/document/2085369.html (last visited June 8, 2023).

¹³ Austrian Centre for Country of Origin and Asylum Research and Documentation, Ecoi.net Featured Topic on Afghanistan: Overview of recent developments and key players in Afghanistan, May 17, 2023, available at: https://www.ecoi.net/en/document/2092065.html (last visited June 9, 2023).

¹⁴ European Union Agency for Asylum, Afghanistan Security Information, Jan. 2023, available at: https://coi.euaa.europa.eu/administration/easo/PLib/2022_08_EUAA_COI_Report_Afghanistan_Security_situation.pdf (last visited June 9, 2023).

¹⁵ European Union Agency for Asylum, Afghanistan Security Information, Jan. 2023, available at: https://coi.euaa.europa.eu/administration/easo/PLib/2022_08_EUAA_COI_Report_Afghanistan_Security_situation.pdf (last visited June 9, 2023).

¹⁶ European Union Agency for Asylum, Afghanistan Security Information, Jan. 2023, available at: https://coi.euaa.europa.eu/administration/easo/PLib/2022_08_EUAA_COI_Report_Afghanistan_Security_situation.pdf (last visited June 9, 2023).

¹⁷ Michael Kugelman, How Dangerous is the Islamic State-Khorasan?, Foreign Policy, Mar. 23, 2023, available at: https://foreignpolicy.com/2023/03/23/afghanistan-islamic-state-khorasan-centcom-warning-threat/ (last visited June 9, 2023).

¹⁸ European Union Agency for Asylum, Afghanistan Security Information, Jan. 2023, available at: https://coi.euaa.europa.eu/administration/easo/PLib/2022_08_EUAA_COI_Report_Afghanistan_Security_situation.pdf (last visited June 9, 2023).

Human Rights Abuses

The human rights situation in Afghanistan was recently described as a worsening crisis, with the United Nations Special Rapporteur on Human Rights in Afghanistan, encouraging the International Criminal Court (ICC) to “take note of the unprecedented deterioration of women's rights . . . and that the Prosecutor consider the crime of gender persecution in Afghanistan.” ¹⁹ Afghanistan under the Taliban remains extremely oppressive, particularly with respect to the meaningful participation of women in all aspects of public and private life and the exercise of freedom of religion or belief. Gender-based violence, including sexual violence, against women and girls occurs with impunity.20 21

¹⁹ United Nations High Commissioner for Refugees (UNHCR), A/HRC/52/84: Situation of human rights in Afghanistan—Report of the Special Rapporteur on the situation of human rights in Afghanistan, Richard Bennett, Feb. 09, 2023, available at: https://www.ohchr.org/en/documents/country-reports/ahrc5284-situation-human-rights-afghanistan-report-special-rapporteur (last visited June 9, 2023).

²⁰ Fereshta Abbasi, What are the main challenges to women and girls' rights in Afghanistan?, Human Rights Watch, Mar. 9, 2023, available at: https://apnews.com/article/taliban-afghanistan-women-rights-united-nations-591c39436d53f83e5a0c423c5e06891c (last visited May 12, 2023).

²¹ UNHCR, A/HRC/52/84: Situation of human rights in Afghanistan—Report of the Special Rapporteur on the situation of human rights in Afghanistan, Richard Bennett, Feb. 09, 2023, available at: https://www.ohchr.org/en/documents/country-reports/ahrc5284-situation-human-rights-afghanistan-report-special-rapporteur (last visited June 9, 2023).

Hazaras, members of an ethnic and religious minority, have experienced harm in the form of forcible evictions, threats, physical harm, and attacks on religious institutions and education centers.²² In September 2022, Human Rights Watch reported that attacks on members of the Hazara community are “systematic in nature and reflect elements of an organizational policy.” ²³

²² U.S. Department of State, 2022 Report on International Religious Freedom: Afghanistan, May 15, 2023, available at: https://www.ecoi.net/en/document/2091855.html (last visited June 9, 2023).

²³ Human Rights Watch, Afghanistan: ISIS Group Targets Religious Minorities, Sept. 6, 2022, available at: https://www.hrw.org/news/2022/09/06/afghanistan-isis-group-targets-religious-minorities (last visited Aug. 21, 2023).

Former employees of the prior Afghan government also continue to face reprisals. Human Rights Watch reported on the killings and disappearances of 47 members of the Afghan National Security Forces (ANSF) in late 2022, and the United Nations (U.N.) found that family members of former Afghan security forces members were also targeted by elements of the Taliban.²⁴ The Taliban have arrested activists and journalists who criticized them on media platforms and raided offices of non-governmental organizations.²⁵ Human rights abuses against perceived opponents have been particularly violent after protests, with the Taliban using live ammunition, whips, and electroshock weapons to disperse crowds.²⁶

²⁴ Austrian Centre for Country of Origin and Asylum Research and Documentation, Ecoi.net Featured Topic on Afghanistan: Overview of recent developments and key players in Afghanistan, May 17, 2023, available at: https://www.ecoi.net/en/document/2092065.html (last visited June 9, 2023).

²⁵ European Union Agency for Asylum, Country Guidance: Afghanistan; January 2023, Jan. 2023, available at: https://www.ecoi.net/en/file/local/2086795/2023_Country_Guidance_Afghanistan_EN.pdf (last visited June 9, 2023).

²⁶ European Union Agency for Asylum, Country Guidance: Afghanistan; January 2023, Jan. 2023, available at: https://www.ecoi.net/en/file/local/2086795/2023_Country_Guidance_Afghanistan_EN.pdf (last visited June 9, 2023).

Humanitarian Situation

The humanitarian situation in Afghanistan is dire, with 15 million Afghans not consuming enough food, and much of the population impacted, as well as limited access to clean water.27 28 As a result of the Taliban takeover and ongoing violence, internal displacement has also skyrocketed in Afghanistan.²⁹ Afghanistan is currently experiencing one of the world's worst humanitarian disasters, with more than two thirds of the population, 29.2 million people, requiring humanitarian assistance.30 31 The U.N. World Food Programme recently found that Afghanistan is at the greatest risk of famine in 25 years, with half of all families in the country existing in crisis-coping mode.³² Since August 2022, the Programme estimates that nine out of ten families in Afghanistan do not have the means to afford enough food.³³ A recent Whole of Afghanistan Assessment found that 79 percent of households lack enough water for daily needs.³⁴ More than 1.6 million Afghans fled the country since 2021, with Iran and Pakistan hosting 85 percent of displaced Afghans.³⁵ There are also approximately 3.2 million internally displaced persons (IDPs) due to conflict and violence.³⁶

²⁷ Human Rights Watch, Afghanistan: Economic Roots of the Humanitarian Crisis, Mar. 1, 2022, available at: https://www.hrw.org/news/2022/03/01/afghanistan-economic-roots-humanitarian-crisis (last visited June 9, 2023).

²⁸ World Food Programme, WFP Afghanistan; Situation Report; 24 May 2023, May 24, 2023, available at: https://reliefweb.int/attachments/bb0a5390-5198-4194-b87d-c8a78cd42e22/20230524%20AFG%20External%20Sitrep.pdf (last visited June 9, 2023).

²⁹ Internal Displacement Monitoring Centre, Country Profile: Afghanistan, May 24, 2023, available at: https://www.internal-displacement.org/countries/afghanistan (last visited June 9, 2023).

³⁰ Human Rights Watch, Hard Choices in Afghanistan's Humanitarian Crisis, May 15, 2023, available at: https://www.hrw.org/news/2023/05/15/hard-choices-afghanistans-humanitarian-crisis#:~:text=Afghanistan%20has%20largely%20disappeared%20from,girls%20remain%20most%20at%20risk. (last visited June 9, 2023).

³¹ ReliefWeb, Afghanistan: Revised Humanitarian Response Plan (Jun-Dec 2023), available at: https://reliefweb.int/report/afghanistan/afghanistan-revised-humanitarian-response-plan-jun-dec-2023 (last Sept. 15, 2023).

³² Id.

³³ Id.

³⁴ ReliefWeb, Afghanistan: Drought—2021-2023, 2021-2023, available at: https://reliefweb.int/disaster/dr-2021-000022-afg (last visited June 9, 2023).

³⁵ UNCHR, Afghanistan Humanitarian Crisis, available at: https://www.unrefugees.org/emergencies/afghanistan/ (last visited June 9, 2023).

³⁶ Afghanistan Humanitarian Crisis, UNHCR, available at: https://www.unrefugees.org/emergencies/afghanistan/ (last visited Sept. 15, 2023).

Healthcare and Infrastructure Concerns

Afghanistan's healthcare system is currently struggling and hospitals that are still functioning do so with few supplies and massive staff shortages, as many medical personnel have fled the unstable country and foreign aid has been suspended since the Taliban takeover.³⁷ The Taliban's targeted attacks on vital infrastructure, including power stations, roads, and cell phone towers have created dire circumstances across the country, which is made worse by the suspension of international support for civilian infrastructure maintenance due to the expulsion of aid workers by the Taliban regime.38 39

³⁷ Ngoe Phuong Hong Tao, et al., Healthcare collapse in Afghanistan due to political crises, natural catastrophes, and dearth of international aid post-COVID, Jan. 11, 2023, Journal of Global Health, available at: https://jogh.org/2023/jogh-13-03003 (last visited June 9, 2023).

³⁸ Statement on Continuation of Assassinations, Kidnappings, and Destruction of Vital Infrastructure, US Embassy in Afghanistan, Jan. 31, 2021, available at: https://af.usembassy.gov/statement-on-continuation-of-assassinations-kidnappings-and-destruction-of-vital-infrastructure/ (last visited June 9, 2023).

³⁹ UN Office for the Coordination of Humanitarian Affairs, Afghanistan: ICCT Winter Prioritisation—December 2022 (Issued 16 January 2023), Jan. 17, 2023, available at: https://reliefweb.int/attachments/1d506d5a-3624-4768-87ac-5bc51329b9b3/2023%20ICCT%20Winter%20Prioritisation%20Report_Q1_fn_160123.pdf (last visited June 9, 2023).

Economic Concerns

Economic instability has added to the deepening humanitarian crisis in Afghanistan. Due to the economic collapse, high inflation, and difficulty in finding stable jobs, an estimated one million children are working in Afghanistan, a number that soared since the Taliban seized power.⁴⁰ In November 2021, the Taliban banned the use of foreign currency, which may further disrupt an economy on the brink of collapse.⁴¹ The World Bank notes that the unexpected loss of public sector activity is likely to have impacts throughout the Afghan economy, especially in the service and construction sectors, which accounts for approximately 58 percent of GDP.⁴² When compared to the previous Taliban era, the level of poverty this time is predicted to be worse and felt more acutely across the country.⁴³

⁴⁰ Radio Free Europe/Radio Liberty, `Life of Toil': Growing Number of Starving Afghan Families Send Children to Work, May 17, 2023, available at: https://www.ecoi.net/en/document/2092100.html (last visited June 9, 2023).

⁴¹ Taliban bans foreign currencies in Afghanistan, BBC News, Nov. 3, 2021, available at: https://www.bbc.com/news/business-59129470 (last visited May 12, 2023).

⁴² Anthony Cordesman, Reshaping U.S. Aid to Afghanistan: The Challenge of Lasting Progress, Feb. 23, 2022, available at: https://www.csis.org/analysis/reshaping-us-aid-afghanistan-challenge-lasting-progress (last visited May 10, 2023).

⁴³ Killing the Goose that Laid the Golden Egg: Afghanistan's economic distress post-15 August, Afghanistan Analysts Network, Nov. 11, 2021, available at: https://www.afghanistan-analysts.org/en/reports/economydevelopment-environment/killing-the-goose-that-laid-the-golden-egg-afghanistans-economic-distress-post-15-august/ (last visited May 12, 2023).

As of September 13, 2023, approximately 550 F-1 nonimmigrant students from Afghanistan are enrolled at SEVP-certified academic institutions in the United States. Given the extent of the current armed conflict and current humanitarian crisis in Afghanistan, affected students whose primary means of financial support comes from Afghanistan may need to be exempt from the normal student employment requirements to continue their studies in the United States. The current armed conflict and current humanitarian crisis has made it unfeasible for many students to safely return to Afghanistan for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up to the equivalent of one class or three credits per session, term, semester, trimester, or quarter of online or distance education toward satisfying this minimum course load requirement, unless their course of study is in an English language study program. See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

May an eligible F-1 nonimmigrant student who already has on-campus or off-campus employment authorization benefit from the suspension of regulatory requirements under this notice?

Yes. An F-1 nonimmigrant student who is an Afghan citizen, regardless of country of birth (or an individual having no nationality who last habitually resided in Afghanistan), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever date comes first].⁴⁴

⁴⁴ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 20, 2025, provided the student satisfies the minimum course load requirements in this notice.

Must the F-1 nonimmigrant student apply for reinstatement after expiration of this special employment authorization if the student reduces his or her “full course of study”?

No. DHS will deem an F-1 nonimmigrant student who receives and comports with the employment authorization permitted under this notice to be engaged in a “full course of study” ⁴⁵ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

⁴⁵ See 8 CFR 214.2(f)(6).

Will an F-2 dependent (spouse or minor child) of an F-1 nonimmigrant student covered by this notice be eligible for employment authorization?

No. An F-2 spouse or minor child of an F-1 nonimmigrant student is not authorized to work in the United States and, therefore, may not accept employment under the F-2 nonimmigrant status, consistent with 8CFR 214.2(f)(15)(i).

Will the suspension of the applicability of the standard student employment requirements apply to an individual who receives an initial F-1 visa and makes an initial entry into the United States after the effective date of this notice in the Federal Register?

No. The suspension of the applicability of the standard regulatory requirements only applies to certain F-1 nonimmigrant students who meet the following conditions:

(1) Are a citizen of Afghanistan regardless of country of birth (or an individual having no nationality who last habitually resided in Afghanistan);

(2) Were lawfully present in the United States on the date of publication of this notice in F-1 nonimmigrant status, under section 101(a)(15)(F)(i) of the INA, 8 U.S.C. 1101(a)(15)(F)(i);

(3) Are enrolled in an academic institution that is SEVP-certified for enrollment of F-1 nonimmigrant students;

(4) Are maintaining F-1 nonimmigrant status; and

(5) Are experiencing severe economic hardship as a direct result of the current armed conflict and current humanitarian crisis in Afghanistan.

An F-1 nonimmigrant student who does not meet all these requirements is ineligible for the suspension of the applicability of the standard regulatory requirements (even if experiencing severe economic hardship as a direct result of the current armed conflict and current humanitarian crisis in Afghanistan).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for

F-1 nonimmigrant students from Afghanistan enrolled in kindergarten through grade 12 at a private school, or grades 9 through 12 at a public high school. Such students must maintain the minimum number of hours of class attendance per week prescribed by the academic institution for normal progress toward graduation, as required under 8CFR214.2(f)(6)(i)(E). The suspension of certain regulatory requirements related to employment through this notice is applicable to all eligible F-1 nonimmigrant students regardless of educational level. Eligible F-1 nonimmigrant students from Afghanistan enrolled in an elementary school, middle school, or high school may benefit from the suspension of the requirement in 8 CFR 214.2(f)(9)(i) that limits on-campus employment to 20 hours per week while school is in session.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20:

Approved for more than 20 hours per week of on-campus employment and reduced course load, under the Special Student Relief authorization from [DSO must insert the beginning date of this notice or the beginning date of the student's employment, whichever date is later] until [DSO must insert the student's program end date or the end date of this notice, whichever date comes first].⁴⁶

⁴⁶ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 20, 2025, provided the student satisfies the minimum course load requirements in this notice.

To obtain on-campus employment authorization, the F-1 nonimmigrant student must demonstrate to the DSO that the employment is necessary to avoid severe economic hardship directly resulting from the current armed conflict and current humanitarian crisis in Afghanistan. An F-1 nonimmigrant student authorized by the DSO to engage in on-campus employment by means of this notice does not need to file any applications with U.S. Citizenship and Immigration Services (USCIS). The standard rules permitting full-time on-campus employment when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ⁴⁷ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.⁴⁸

⁴⁷ See 8 CFR 214.2(f)(6).

⁴⁸ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ⁴⁹ for the purpose of maintaining F-1 nonimmigrant student status for the duration of the student's employment authorization if the student satisfies the minimum course load requirement described in this notice, consistent with 8 CFR 214.2(f)(6)(i)(F). However, the authorization for a reduced course load is solely for DHS purposes of determining valid F-1 nonimmigrant student status. Nothing in this notice mandates that school officials allow an F-1 nonimmigrant student to take a reduced course load if such reduced course load would not meet the school's minimum course load requirement.⁵⁰

⁴⁹ See 8 CFR 214.2(f)(6).

⁵⁰ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the current armed conflict and current humanitarian crisis in Afghanistan.⁵¹ Filing instructions are located at https://www.uscis.gov/i-765.

⁵¹ See 8 CFR 274a.12(c)(3)(iii).

Fee considerations. Submission of a Form I-765 currently requires payment of a $410 fee. An applicant who is unable to pay the fee may submit a completed Form I-912, Request for Fee Waiver, along with the Form I-765, Application for Employment Authorization. See https://www.uscis.gov/forms/filing-fees/additional-information-on-filing-a-fee-waiver. The submission must include an explanation about why USCIS should grant the fee waiver and the reason(s) for the inability to pay, and any evidence to support the reason(s). See 8 CFR 103.7(c) (Oct. 1, 2020).

Supporting documentation. An F-1 nonimmigrant student seeking off-campus employment authorization due to severe economic hardship must demonstrate the following to their DSO:

(1) This employment is necessary to avoid severe economic hardship; and

(2) The hardship is a direct result of the current armed conflict and current humanitarian crisis in Afghanistan.

If the DSO agrees that the F-1 nonimmigrant student is entitled to receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 until [DSO must insert the program end date or the end date of this notice, whichever date comes first].⁵²

⁵² Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 20, 2025, provided the student satisfies the minimum course load requirements in this notice.

The F-1 nonimmigrant student must then file the properly endorsed Form I-20 and Form I-765 according to the instructions for the Form I-765. The F-1 nonimmigrant student may begin working off campus only upon receipt of the EAD from USCIS.

DSO recommendation. In making a recommendation that an F-1 nonimmigrant student be approved for Special Student Relief, the DSO certifies that:

(a) The F-1 nonimmigrant student is in good academic standing and is carrying a “full course of study” ⁵³ at the time of the request for employment authorization;

⁵³ See 8 CFR 214.2(f)(6).

(b) The F-1 nonimmigrant student is a citizen of Afghanistan, regardless of country of birth (or an individual having no nationality who last habitually resided in Afghanistan), and is experiencing severe economic hardship as a direct result of the current armed conflict and current humanitarian crisis in Afghanistan, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ⁵⁴ and

⁵⁴ 8 CFR 214.2(f)(5)(v).

(d) The off-campus employment is necessary to alleviate severe economic hardship to the individual as a direct result of the current armed conflict and current humanitarian crisis in Afghanistan.

Processing. To facilitate prompt adjudication of the student's application for off-campus employment authorization under 8 CFR 214.2(f)(9)(ii)(C), the F-1 nonimmigrant student should do both of the following:

(a) Ensure that the application package includes the following documents:

(1) A completed Form I-765 with all applicable supporting evidence;

(2) The required fee or properly documented fee waiver request as defined in 8 CFR 103.7(c) (Oct. 1, 2020); and

(3) A signed and dated copy of the student's Form I-20 with the appropriate DSO recommendation, as previously described in this notice; and

(b) Send the application in an envelope which is clearly marked on the front of the envelope, bottom right-hand side, with the phrase “SPECIAL STUDENT RELIEF.” ⁵⁵ Failure to include this notation may result in significant processing delays.

⁵⁵ Guidance for direct filing addresses can be found here: https://www.uscis.gov/i-765-addresses.

If USCIS approves the student's Form I-765, USCIS will send the student a Form I-766 EAD as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or for other relief that reduces the student's course load per term and permits an increased number of work hours per week, such as Special Student Relief,⁵⁶ under this notice has two options.

⁵⁶ See DHS Study in the States, Special Student Relief, https://studyinthestates.dhs.gov/students/special-student-relief (last visited May 10, 2023).

Under the first option, the F-1 nonimmigrant student may apply for TPS according to the instructions in the USCIS notice designating Afghanistan for TPS elsewhere in this issue of the Federal Register. All TPS applicants must file a Form I-821, Application for Temporary Protected Status, with the appropriate fee (or request a fee waiver). Although not required to do so, if F-1 nonimmigrant students want to obtain a new TPS-related EAD that is valid through May 20, 2025, and to be eligible for automatic EAD extensions that may be available to certain EADs with an A-12 or C-19 category code, they must file Form I-765 and pay the Form I-765 fee (or request a fee waiver). After receiving the TPS-related EAD, an F-1 nonimmigrant student may request that their DSO make the required entry in SEVIS, issue an updated Form I-20, as described in this notice, and notate that the nonimmigrant student has been authorized to carry a reduced course load and is working pursuant to a TPS-related EAD. As long as the F-1 nonimmigrant student maintains the minimum course load described in this notice, does not otherwise violate their nonimmigrant status, including as provided under 8 CFR 214.1(g), and maintains TPS, then the student maintains F-1 status and TPS concurrently.

Under the second option, the F-1 nonimmigrant student may apply for an EAD under Special Student Relief by filing Form I-765 with the location specified in the filing instructions. At the same time, the F-1 nonimmigrant student may file a separate TPS application but must submit the Form I-821 according to the instructions provided in the Federal Register notice designating Afghanistan for TPS. If the F-1 nonimmigrant student has already applied for employment authorization under Special Student Relief, they are not required to submit the Form I-765 as part of the TPS application. However, some nonimmigrant students may wish to obtain a TPS-related EAD in light of certain extensions that may be available to EADs with an A-12 or C-19 category code that are not available to the C-3 category under which Special Student Relief falls. The F-1 nonimmigrant student should check the appropriate box when filling out Form I-821 to indicate whether a TPS-related EAD is being requested. Again, as long as the F-1 nonimmigrant student maintains the minimum course load described in this notice and does not otherwise violate the student's nonimmigrant status, included as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁵⁷ unless or until the nonimmigrant student receives employment authorization under this notice. TPS-related employment authorization, by itself, does not authorize a nonimmigrant student to drop below twelve credit hours, or otherwise applicable minimum requirements (e.g., clock hours for non-traditional academic programs). Once approved for a TPS-related EAD and Special Student Relief employment authorization, as indicated by the DSO's required entry in SEVIS and issuance of an updated Form I-20, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9)(i) and (ii).

⁵⁷ See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from the current armed conflict and current humanitarian crisis in Afghanistan. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision may apply to students who worked on a TPS-related EAD or dropped their course load before publication of this notice, and therefore fell out of student status. These students must satisfy the criteria set forth in the F-1 nonimmigrant student status reinstatement regulations.

How long will this notice remain in effect?

This notice grants temporary relief until May 20, 2025,⁵⁸ to eligible F-1 nonimmigrant students. DHS will continue to monitor the situation in Afghanistan. Should the special provisions authorized by this notice need modification or extension, DHS will announce such changes in the Federal Register.

⁵⁸ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 20, 2025, provided the student satisfies the minimum course load requirements in this notice.

Paperwork Reduction Act (PRA)

An F-1 nonimmigrant student seeking off-campus employment authorization due to severe economic hardship resulting from the current armed conflict and current humanitarian crisis in Afghanistan must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control Number 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2023-20789 Filed 9-21-23; 4:15 pm]

BILLING CODE 9111-28-P